ENVIRONMENTAL PROTECTION AGENCY

[EPA-HQ-ORD-2005-0504; FRL-8011-9]

Notice of Availability of the Nanotechnology White Paper External Review Draft

AGENCY: Environmental Protection Agency (EPA).

ACTION: Notice of document availability.

SUMMARY: The U.S. Environmental Protection Agency is submitting the Nanotechnology White Paper External Review Draft for independent external peer review, which will be conducted in the February timeframe. Public comments will be accepted prior to the meeting of the external peer review panel. All comments received by January 31, 2006 will be shared with the external peer review panel for their consideration. Comments received beyond that time will be considered by EPA. The public release of this draft document is solely for the purpose of seeking public comment and peer review. This draft white paper does not represent and should not be construed to represent any EPA policy, viewpoint, or determination. Members of the public may obtain the draft white paper from http://www.regulations.gov; or http://www.epa.gov/osa/nanotech.htm; or from Dr. Kathryn Gallagher via the contact information below.

The Nanotechnology White Paper External Review Draft identifies data gaps that need to be filled and recommends research for both environmental applications and implications of nanotechnology that would inform the appropriate regulatory safeguards for nanotechnology. The draft white paper describes the technology and provides a discussion of potential environmental benefits of nanotechnology. Risk management issues and the Agency's statutory mandates are outlined, following an extensive discussion of risk assessment issues. The draft white paper concludes with recommendations on next steps for addressing science policy issues and research needs. Supplemental information is provided in a number of appendices.

Following the expert review, EPA will issue a final white paper on nanotechnology in early 2006. To obtain additional information, visit: http://www.epa.gov/osa/nanotech.htm.

DATES: All comments received by January 31, 2006 will be shared with the external peer review panel for their consideration. Comments received beyond that time will be considered by EPA.

ADDRESSES: Submit your comments, identified by Docket ID No. EPA-HQ-ORD-2005-0504, by one of the following methods:

• http://www.regulations.gov: Follow the on-line instructions for submitting comments.

• E-mail: ORD.Docket@epa.gov.

• Mail: ORD Docket, Environmental Protection Agency, Mailcode: 28221T, 1200 Pennsylvania Ave., NW., Washington, DC 20460.

• Hand Delivery: EPA Docket Center (EPA/DC), Room B102, EPA West Building, 1301 Constitution Avenue, NW., Washington, DC 20460, Attention Docket ID No. EPA-HQ-ORD-2005-0504. Deliveries are only accepted from 8:30 a.m. to 4:30 p.m., Monday through Friday, excluding legal holidays. Special arrangements should be made for deliveries of boxed information.

Instructions: Direct your comments to Docket ID No. EPA-HQ-ORD-2005-0504. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA, without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the ORD Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: Dr. Kathryn Gallagher, Office of the Science Advisor, Mail Code 8105-R, Environmental Protection Agency, 1200 Pennsylvania Avenue, NW., Washington, DC 20460; telephone number: (202) 564-1398; fax number: (202) 564-2070, E-mail: Gallagher.kathryn@epa.gov.

Dated: December 16, 2005.
William H. Farland,
Acting Chair, Science Policy Council.

[FR Doc. 05-24304 Filed 12-20-05; 8:45 am]

BILLING CODE 6560-50-P